NATIONAL AERONAUTICS AND SPACE ADMINISTRATION

[Notice (04-027)]

Notice of Prospective Patent License

AGENCY: National Aeronautics and Space Administration.

ACTION: Notice of prospective patent license.

SUMMARY: NASA hereby gives notice that Luna Innovations, Incorporated, of 2851 Commerce Street, Blacksburg, Virginia 24060, has applied for an exclusive license to practice the inventions described and claimed in U.S. Patent No. 5,150,620 entitled “Method of Recertifying a Loaded Bearing Member”; U.S. Patent No. 5,214,955 entitled “Constant Frequency Pulsed PhaseLocked Loop Measuring Device”; U.S. Patent No. 5,617,873 entitled “Non-Invasive Method and Apparatus for Monitoring Intracranial Pressure and Pressure Volume Index in Humans”; U.S. Patent No. 5,841,032 entitled “Variable And Fixed Frequency Pulsed PhaseLocked Loop”; U.S. Patent No. 6,413,227 entitled “Method and Apparatus for Assessment of Changes in Intracranial Pressure”; U.S. Patent No. 6,475,147 entitled “Ultrasonic Apparatus and Technique to Measure Changes in Intracranial Pressure”; and the inventions disclosed in NASA Case No. LAR 15854-1 entitled “Method and Apparatus for Non-Invasive Measurement of Changes in Intracranial Pressure”; NASA Case No. LAR 15943-1 entitled “Method and Apparatus for Determining Changes in Intracranial Pressure Utilizing Measurement of the Circumferential Expansion or Contraction of a Patient's Skull”; NASA Case No. LAR 16440-1 entitled “Non-Invasive Method of Determining Diastolic Intracranial Pressure”; and NASA Case No. LAR 16510-1 entitled “Non-Invasive Method of Determining Absolute Intracranial Pressure”; for which U.S. Patent Applications were filed, all of which are assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by March 9, 2004.

FOR FURTHER INFORMATION CONTACT: Helen M. Galus, Patent Attorney, Mail Stop 212, NASA Langley Research Center, Hampton, VA 23681-2199. Telephone 757-864-3227; fax 757-864-9190.

Dated: February 17, 2004.
Robert M. Stephens,
Deputy General Counsel.

[FR Doc. 04-3847 Filed 2-20-04; 8:45 am]

BILLING CODE 7510-01-P